DEPARTMENT OF STATE

[Public Notice 4624]

Proposals for U.S. Pavilion at the 2005 World Exhibition in Aichi, Japan

SUMMARY: The Bureau of Educational and Cultural Affairs (ECA) of the Department of State requests proposals from private U.S. individuals, firms, associations and organizations (for profit and non-profit) for the development, organization and management of a U.S. pavilion/exhibition covering 15,000 square feet at the 2005 World Exposition in Aichi, Japan (the Aichi Expo). The Department will provide the organization submitting the winning proposal with a letter authorizing it to proceed with fundraising until the funds necessary to complete the U.S. Pavilion project have been raised. This letter will include guidelines on fundraising to be followed by the winning organization. At the time at which all funding has been raised, the Department will sign a Memorandum of Understanding (MOU) with the winning organization and will appoint a Commissioner General. Proposals from non-U.S. citizens or non-U.S. firms or organizations will be deemed ineligible. Cost for a representative U.S. pavilion/exhibit is estimated at $20 million and must be provided completely by the winning organization. The Department of State is not authorized and does not now or in the future intend to make any commitment, implied or otherwise, to provide funding for any aspect of the U.S. pavilion/exhibition at the Aichi Expo.

DATES: The deadline for “submission” of proposals is 5 p.m., Thursday, March 4, 2004 (see below for details).

ADDRESSES: Proposals must be communicated Room 220, 301 Fourth Street, SW., Washington, DC, 20547.

FOR FURTHER INFORMATION CONTACT: James Ogul, Program Manager, (see address), telephone to 202-205-0535, fax to 202-260-0440 or e-mail at OgulJE@state.gov.

In light of recent events and heightened security measures, proposal submissions must be sent via a nationally recognized overnight delivery service (i.e., DHL, Federal Express, UPS, Airborne Express, or U.S. Postal Service Express Overnight Mail, etc.) and be SHIPPED no later than the above deadline. The delivery services used by applicants must have in-place, centralized shipping identification and tracking systems that may be accessed via the Internet and delivery people who are identifiable by commonly recognized uniforms and delivery vehicles. Proposals shipped on or before the above deadline but received at ECA more than seven days after the deadline (i.e., received after 5 p.m. March 11) will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Please review carefully the guidelines below for details on the format for submission of indications of interest.

Background

The Government of Japan has invited the United States to participate in the 2005 World Exposition in Aichi, Japan, and the U.S. government has advised the Japanese government of its intention to participate. The Aichi Expo will be held on specially constructed exhibition grounds in Seto City and Toyota City, Japan. The Expo opens on March 25, 2005 and closes on September 25, 2005.

Aichi 2005 Expo is a large-scale international exposition or “world's fair” sanctioned or “registered” by the Bureau of International Expositions, an international treaty organization established to sanction and monitor international exhibitions of long duration (over three weeks) and significant scale. Invitations to world's fairs are extended from the host government to other governments.

With a projected 18 million visitors, the Aichi exposition offers an excellent opportunity to educate and inform foreign audiences about the United States and its people. The theme of the expo, “Nature's Wisdom,” is one of considerable interest to the people of the United States and other countries. The purpose of the exposition is to “promote the understanding of the relationship between human activities and nature in order to encourage cooperation in the status quo between technology and human lifestyles.”

The United States intends to participate officially in the Aichi Expo, and ECA must ensure that the U.S. exhibit is nonpolitical in nature, of the highest possible quality, and balanced and representative of the diversity of American political, social and cultural life. The pavilion/exhibit must maintain the highest level of scholarly integrity and meet the highest standards of artistic achievement and academic excellence.

The U.S. presence at the Aichi Expo will help promote mutual understanding and confirm the strength and importance of US-Japan bilateral ties. Further information on the Aichi Expo can be found at the official expo Web site: http://www.expo2005.com/

Statutory Authority: Overall authority for Department of State support for U.S. participation in international expositions is contained in section 102(a)(3) of the Mutual Educational and Cultural Exchange Act of 1961, as amended (22 U.S.C. 2452(a)(3); also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Pursuant to this authority, ECA is the Department bureau responsible for coordinating U.S. participation in the Aichi Expo 2005. Consequently, ECA will represent the U.S. Government in dealings with the organizers of the Aichi Expo.

Funding Limitations: Section 204 of Public Law 106-113 (22 U.S.C. 2452b) limits the support the Department of State may provide for U.S. participation in international expositions registered by the Bureau of International Expositions (BIE). This includes the Aichi Expo. This Request for Proposals is intended to help identify a private U.S. individual, firm or organization interested in and capable of providing a complete pavilion/exhibit at the Aichi Expo. The Department of State is not authorized, and does not now or in the future intend to make any commitment—implied or otherwise—to provide funding for any aspect of the U.S. exhibition at the Aichi Expo.

Costs: As an official national participant, the United States will have the right to use five exhibition “modules” provided at no cost by the Expo organizers. The U.S. pavilion will cover approximately 15,000 square feet. It is estimated that a representative exhibition in that space will cost $20 million. Costs would include, but not be limited to:

—Design of the exhibit and drafting of the story line

—Fundraising expenses

—Production of exhibits, audio-visual materials, films, DVDs, videos, posters and other promotional materials needed for the exhibit

—Building modifications/enhancements necessary to incorporate the exhibit and decorate the building facade and interior and provide exterior landscaping and crowd control features such as providing necessary equipment and linking into Aichi Expo 2005's IC chip technology built into Expo admission tickets

—Promotion and advertising for the U.S. exhibition

—Administrative and staff costs, including salaries, benefits, contracting and supplier costs and consulting fees

—Transport, travel, insurance, postage and shipping fees

—Security, development and implementation of a security program for the U.S. Pavilion in consultation with the State Department and appropriate Japanese authorities

—Tear-down, including removal of exhibits and return of the pavilion in the condition required by the Expo organizers, and

—Cultural and informational programs associated with the exhibition, including, but not limited to, production of U.S. National Day activities

Expo Guidelines: Interested parties may obtain copies of the General Regulations and Expo Guidelines from the Aichi Expo offices in Japan at: Director General, Official Participation Group, Lino Bldg., 7F, 2-1-1 Uchisaiwi-cho, Chiyoda-ku, Tokyo 100-0011, Japan.

Proposals should be provided in a narrative of no more than twenty (20) pages, single-spaced, plus a detailed budget and attachments and exhibits. The narrative and additional documents should outline in as much detail as possible plans for providing a U.S. exhibition at the Aichi Expo.

Proposals should address the following:

• Willingness to adhere to the General Regulations of the Aichi Expo as stipulated by the Expo organizers;

• Track record of working with exhibitions and on the proposed theme;

• An experienced staff with language facility;

• A clear exhibit plan and storyline;

• A detailed fundraising plan listing intended individuals and institutions to be approached, description of donation and sample donation agreement; and

• Willingness to consult closely with and follow the guidance of ECA and U.S. diplomatic officers in Japan.

Proposals should state clearly that all materials developed specifically for the project will be subject to review and approval by ECA.

Review Process

Proposals will be deemed ineligible if they are not submitted by a U.S. citizen, corporation or U.S.-based organization and do not fully adhere to the General Regulations of the Aichi Expo and the guidelines stated herein.

A panel of senior U.S. Government employees will review eligible proposals. ECA and other elements of the Department in Washington, and the Public Diplomacy section and other elements at the U.S. Embassy in Tokyo and U.S. Consulate General in Nagoya, will also review all eligible proposals. The final decision on a potential U.S. exhibitor will be at the discretion of the Department of State's Assistant Secretary for Educational and Cultural Affairs.

Review Criteria

Technically eligible proposals will be competitively reviewed according to the criteria stated below. These criteria are not rank-ordered and all carry equal weight in the evaluation.

1. Program planning to achieve exhibit objectives: Proposals should clearly demonstrate how the planned exhibit would achieve its objectives and how it would comply with the theme and General Regulations of the Expo. Exhibit objectives should be reasonable, feasible, and flexible. The proposal should contain a detailed timeline and budget that demonstrate substantive undertakings and fundraising and logistical capacity.

2. Institutional Capacity/Record/Ability: Proposed personnel and institutional resources should be defined and adequate and appropriate to achieve the exhibit's goals. Proposals should demonstrate an institutional record of successful exhibit activities, including responsible fiscal management and full compliance with all BIE-registered Expo requirements. ECA will give serious weight to past performance and demonstrated potential of the staffing proposed for the project.

3. Multiplier effect/impact: Exhibit content and related activities should strengthen long-term mutual understanding between the United States and Japan.

4. Support of Diversity: Programs sponsored by ECA must encourage the involvement of participants from all traditionally underrepresented groups including women, racial and ethnic minorities and people with disabilities.

5. Monitoring and Project Evaluation Plan: Proposals that include a plan to measure the impact of the proposed U.S. exhibition are encouraged.

6. Cost-effectiveness: Proposals must present a credible budget and fundraising plan to fund all aspects of the U.S. Pavilion project. Note that prospective donors will be vetted with the State Department for potential conflict of interest.

Notice

The terms and conditions published in this Request for Proposals are binding and may not be modified by any ECA representative. Explanatory information provided by ECA that contradicts published language will not be binding. Issuance of this RFP does not constitute an intention to agree to work with any private sector exhibitor at the Aichi Expo. ECA reserves the right to select the final U.S. exhibitor for the Aichi Expo and to approve all elements of the exhibition and project. Decisions made based on indications of interest submitted in response to this RFP will be made solely by ECA and are final.

Dated: February 6, 2004.
Patricia S. Harrison,
Assistant Secretary for Educational and Cultural Affairs, Department of State.

[FR Doc. 04-3243 Filed 2-12-04; 8:45 am]

BILLING CODE 4710-05-P